DEPARTMENT OF AGRICULTURE

Forest Service

Lake Tahoe Basin Federal Advisory Committee

AGENCY: Forest Service, USDA.

ACTION: Notice of meeting.

SUMMARY: The Lake Tahoe Basin Federal Advisory Committee will hold a meeting on January 9, 2004, at the U.S. Forest Service Office, Emerald Bay Conference Room, 35 College Drive, South Lake Tahoe, CA. This Committee, established by the Secretary of Agriculture on December 15, 1998, (64 FR 2876) is chartered to provide advice to the Secretary on implementing the terms of the Federal Interagency Partnership on the Lake Tahoe Region and other matters raised by the Secretary.

DATES: The meeting will be held January 9, 2004, beginning at 10 a.m. and ending at 11 a.m.

ADDRESSES: The meeting will be held at the U.S. Forest Service Office, Emerald Bay Conference Room, 35 College Drive, South Lake Tahoe, CA.

FOR FURTHER INFORMATION CONTACT: Maribeth Gustafson or Jeannie Stafford, Lake Tahoe Basin Management Unit, Forest Service, 35 College Drive, South Lake Tahoe, CA 96150, (530) 543-2642.

SUPPLEMENTARY INFORMATION: The committee will meet jointly with the Lake Tahoe Basin Executives Committee via conference call. Items to be covered on the agenda include: (1) Recommendations for Southern Nevada Public Lands Management Act Funding Proposals and (2) public comment. All Lake Tahoe Basin Federal Advisory Committee meetings are open to the public. Interested citizens are encouraged to attend at the above address. Issues may be brought to the attention of the Committee during the open public comment period at the meeting or by filing written statements with the secretary for the Committee before or after the meeting. Please refer any written comments to the Lake Tahoe Basin Management Unit at the contact address stated above.

Dated: November 24, 2003.
Rex Norman,
Acting Forest Supervisor.

[FR Doc. 03-29869 Filed 12-1-03; 8:45 am]

BILLING CODE 3410-11-M